DEPARTMENT OF THE INTERIOR

National Park Service

Death Valley National Park Advisory Commission; Notice of Meeting

Notice is hereby given in accordance with the Federal Advisory Commission Act that a meeting of the Death Valley National Park Advisory Commission will be held May 22 and 23, 2001 at the Furnace Creek Inn within Death Valley National Park.

The main agenda will include:

• Updates on wilderness boundaries;

• Water monitoring;

• Grapevine DCP

• Resources update

• Update on EIS for Travertine/Texas Springs

• Appropriate field trips within Death Valley National Park.

The Advisory Commission was established by Pub. L. 03-433 to provide for the advice on development and implementation of the General Management Plan.

Members of the Commission are Janice Allen, Michael Dorame, Mark Ellis, Pauline Esteves, Stanley Haye, Sue Hickman, Cal Jepson, Joan Lolmaugh, Gary O'Connor, Alan Peckham, Michael Prather, Wayne Schulz, and Gilbert Zimmerman.

This meeting is open to the public.

James T. Reynolds,
Superintendent, Death Valley National Park.

[FR Doc. 01-9761 Filed 4-19-01; 8:45 am]

BILLING CODE 4310-70-P